INTERNATIONAL TRADE COMMISSION

[Investigation No. TA-2104-18]

U.S.-Central America Free Trade Agreement: Potential Economywide and Selected Sectoral Effects

AGENCY: United States International Trade Commission.

ACTION: Notice of termination of investigation.

EFFECTIVE DATE: January 10, 2005.

SUMMARY: On January 5, 2005, the Commission received a letter from the Office of the United States Trade Representative (USTR) stating that the USTR has withdrawn his request for a Commission report, pursuant to section 2104(f) of the Trade Act of 2002 (19 U.S.C. 3804(f)), assessing the likely impact of a free trade agreement (FTA) with Costa Rica, El Salvador, Guatemala, Honduras, and Nicaragua (Central America). Accordingly, the Commission has terminated investigation No. TA-2104-18, U.S.-Central America Free Trade Agreement: Potential Economywide and Selected Sectoral Effects, which was instituted pursuant to that request. The public hearing in this investigation, scheduled for January 18, 2005, is canceled.

Background: The Commission instituted the investigation following receipt of a request from the USTR on November 17, 2004. The Commission published notice of institution of the investigation in the Federal Register on December 28, 2004 (69 FR 77778). The January 5, 2005, letter from USTR noted that the USTR had requested the report in light of the fact that the Dominican Republic had enacted a tax on beverages sweetened with high fructose corn syrup (HFCS) that the United States regarded as incompatible with the Dominican Republic's obligations under the FTA that the United States had entered into with Central America and the Dominican Republic on August 5, 2004 (and on which the Commission had already provided a report). The letter stated that the Dominican Republic repealed the tax on December 29, 2004.

By order of the Commission.
Issued: January 10, 2005.
Marilyn R. Abbott,
Secretary to the Commission.

[FR Doc. 05-809 Filed 1-12-05; 8:45 am]

BILLING CODE 7020-02-P